FEDERAL COMMUNICATIONS COMMISSION

[FR ID 37205]

Open Commission Meeting, Tuesday, July 13, 2021

July 6, 2021.

The Federal Communications Commission will hold an Open Meeting on the subjects listed below on Tuesday July 13, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | WIRELINE COMPETITION | TITLE: Protecting Against National Security Threats to the Communications Supply Chain Through FCC Programs (WC Docket No. 18-89). SUMMARY: The Commission will consider a Third Report and Order that would amend the rules for the Secure and Trusted Communications Networks Reimbursement Program consistent with modifications adopted by Congress in the Consolidated Appropriations Act, 2021. The item would also clarify certain aspects of the Reimbursement Program.
2 | OFFICE OF ENGINEERING AND TECHNOLOGY | TITLE: Amendment of Section 15.255 of the Commission's Rules (ET Docket No. 21-264). SUMMARY: The Commission will consider a Notice of Proposed Rulemaking proposing revisions to Section 15.255 of the rules governing short range radar operations in the 64-71 GHz frequency band.
3 | MEDIA | TITLE: Updating Broadcast Radio Technical Rules (MB Docket No. 21-263). SUMMARY: The Commission will consider a Notice of Proposed Rulemaking to eliminate or amend outmoded or unnecessary broadcast technical rules.
4 | INTERNATIONAL | TITLE: Mandatory Electronic Filing of Section 325(c) Applications, International Broadcast Applications, and Dominant Carrier Section 63.10(c) Quarterly Reports (IB Docket No. 21-265). SUMMARY: The Commission will consider an Order that would amend rules to require the remaining applications and reports to be filed electronically in the International Bureau Filing System (IBFS) and eliminate duplicative paper filing requirements.
5 | ENFORCEMENT | TITLE: Enforcement Bureau Action. SUMMARY: The Commission will consider an enforcement action.
6 | WIRELESS TELE-COMMUNICATIONS | TITLE: Promoting Technological Solutions to Combat Contraband Wireless Device Use in Correctional Facilities (GN Docket No. 13-111). SUMMARY: The Commission will consider a Second Report and Order taking steps to combat contraband wireless devices in correctional facilities and Second Further Notice of Proposed Rulemaking seeking comment on additional technological solutions to combat contraband device usage in correctional facilities.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2021-14723 Filed 7-9-21; 8:45 am]

BILLING CODE 6712-01-P